EXPORT-IMPORT BANK

[Public Notice: 2021-3031]

Agency Information Collection Activities: Comment Request; Form Title: EIB 03-02 Application for Medium Term Insurance, Direct Loan or Guarantee

AGENCY: Export-Import Bank of the United States.

ACTION: Submission for OMB review and final comments request.

SUMMARY: The Export-Import Bank of the United States (EXIM), as a part of its continuing effort to reduce paperwork and respondent burden, invites the general public and other Federal Agencies to comment on the proposed information collection, as required by the Paperwork Reduction Act of 1995. The purpose of this collection is to gather information necessary to make a determination of eligibility of a transaction for EXIM assistance under its medium-term guarantee and insurance program.

DATES: Comments should be received on or before November 14, 2022 to be assured of consideration.

ADDRESSES: Comments may be submitted electronically on WWW.REGULATIONS.GOV (EIB 03-02) or by mail to Office of Information and Regulatory Affairs, 725 17th Street NW, Washington, DC 20038, Ave. NW Washington, DC The application tool can be reviewed at: http://www.exim.gov/sites/default/files/pub/pending/eib03-02_0.pdf.

SUPPLEMENTARY INFORMATION:

Titles and Form Number: EIB 03-02 Application for Medium Term Insurance, Direct Loan or Guarantee.

OMB Number: 3048-0014.

Type of Review: Update & Renewal.

Need and Use: The purpose of this collection is to gather information necessary to make a determination of eligibility of a transaction for EXIM assistance under its medium-term guarantee and insurance program.

Affected Public:

This form affects entities involved in the export of U.S. goods and services.

Annual Number of Respondents: 200.

Estimated Time per Respondent: 2 hours.

Annual Burden Hours: 400 hours.

Frequency of Reporting or Use: As needed.

Government Expenses:

Reviewing Time per Year: 200 hours.

Average Wages per Hour: $42.50.

Average Cost per Year: $8,500 (time*wages).

Benefits and Overhead: 20%.

Total Government Cost: $10,200.

Andy Chang,
Director, IT Records Management.

[FR Doc. 2022-22325 Filed 10-13-22; 8:45 am]

BILLING CODE 6690-01-P